DEPARTMENT OF THE INTERIOR

National Park Service

[NPS-WASO-NAGPRA-NPS0040443; PPWOCRADN0-PCU00RP14.R50000]

Notice of Intended Repatriation: University of Pennsylvania Museum of Archaeology and Anthropology, Philadelphia, PA

AGENCY: National Park Service, Interior.

ACTION: Notice.

SUMMARY: In accordance with the Native American Graves Protection and Repatriation Act (NAGPRA), the University of Pennsylvania Museum of Archaeology and Anthropology (Penn Museum) intends to repatriate certain cultural items that meet the definition of unassociated funerary objects and that have a cultural affiliation with the Indian Tribes or Native Hawaiian organizations in this notice.

DATES: Repatriation of the cultural items in this notice may occur on or after July 28, 2025.

ADDRESSES: Send additional, written requests for repatriation of the cultural items in this notice to Dr. Christopher Woods, University of Pennsylvania Museum of Archaeology and Anthropology, 3260 South Street, Philadelphia, PA 19104-6324, email director@pennmuseum.org.

SUPPLEMENTARY INFORMATION: This notice is published as part of the National Park Service's administrative responsibilities under NAGPRA. The determinations in this notice are the sole responsibility of the Penn Museum, and additional information on the determinations in this notice, including the results of consultation, can be found in the summary or related records. The National Park Service is not responsible for the determinations in this notice.

Abstract of Information Available

A total of 272 cultural items have been requested for repatriation. The 272 unassociated funerary objects consist of tools such as adze heads, handles, crooked knives, dog harness swivels, drills, needles, scrapers, snow goggles, and wrist shields; hunting implements including arrowheads, bullets, harpoon fragments and cases, an atlatl, lance head, and bow; and dishware such as bowls, cups, ladles, and plates. Additional items include pipe fragments, sled parts, amulets, charms, beads, and dentalium shells. Object materials include stone, metal, glass, and organic materials such as wood, shell, animal bone, ivory, antlers, leather, and sinew. Two items have a known presence of lead.

The items were collected by Edward Avery McIlhenny from Barrow, Alaska, between 1897 and 1898, who was in the Barrow area at this time assembling archaeological and ethnographical collections on behalf of the Penn Museum and the Academy of Natural Sciences of Philadelphia. The items were accessioned into the collection of the University of Pennsylvania, Department of Archaeology and Paleontology (now, Penn Museum) in 1899. Of the 272 items, 15 were collected from the Cape Smythe graveyard (a Historic cemetery east of Utkiavik) and 257 were collected from the Point Barrow cemetery (the Historic Nixeruk cemetery), both in the North Slope Borough region of Alaska.

Determinations

The Penn Museum has determined that:

• The 272 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Native Village of Barrow Inupiat Traditional Government.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 28, 2025. If competing requests for repatriation are received, the Penn Museum must determine the most appropriate requestor prior to repatriation. Requests for joint repatriation of the cultural items are considered a single request and not competing requests. The Penn Museum is responsible for sending a copy of this notice to the Indian Tribes and Native Hawaiian organizations identified in this notice and to any other consulting parties.

Authority: Native American Graves Protection and Repatriation Act, 25 U.S.C. 3004 and the implementing regulations, 43 CFR 10.9.

Dated: June 17, 2025.
Melanie O'Brien,
Manager, National NAGPRA Program.

[FR Doc. 2025-11933 Filed 6-26-25; 8:45 am]

BILLING CODE 4312-52-P